DEPARTMENT OF HEALTH AND HUMAN SERVICES

Office of the National Coordinator for Health Information Technology; American Health Information Community Chronic Care Workgroup Meeting

ACTION: Announcement of meeting.

SUMMARY: This notice announces the 14th meeting of the American Health Information Community Chronic Care Workgroup in accordance with the Federal Advisory Committee Act (Pub. L. 92-463, 5 U.S.C., App.)

DATES: March 22, 2007, from 1 p.m. to 4 p.m.

ADDRESSES: Mary C. Switzer Building (330 C Street, SW., Washington, DC 20201), Conference Room 4090. Please bring photo ID for entry to a Federal building.

FOR FURTHER INFORMATION: http://www.hhs.gov/healthit/ahic/chroniccare/

SUPPLEMENTARY INFORMATION: The Workgroup will continue its discussion on ways to deploy widely available, secure technologies solutions for remote monitoring and assessment of patients and for communication between clinicians about patients.

The meeting will be available via Web cast. For additional information, go to: http://www.hhs.gov/healthit/achic/chroniccare/cc_instruct.html

Dated: February 12, 2007.
Judith Sparrow,
Director, American Health Information Community, Office of Programs and Coordination, Office of the National Coordinator for Health Information Technology.

[FR Doc. 07-816 Filed 2-22-07; 8:45 am]

BILLING CODE 4150-24-M